DEPARTMENT OF HOMELAND SECURITY

Federal Emergency Management Agency

44 CFR Part 64

[Docket ID FEMA-2010-0003; Internal Agency Docket No. FEMA-8119]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region II
New York:
Cincinnatus, Town of, Cortland County | 360177 | July 7, 1975, Emerg; May 15, 1985, Reg; March 2, 2010, Susp. | March 2, 2010 | March 2, 2010
Cortland, City of, Cortland County | 360178 | February 3, 1975, Emerg; August 15, 1983, Reg; March 2, 2010, Susp. | ......do* | Do.
Cortlandville, Town of, Cortland County | 360179 | June 24, 1975, Emerg; August 15, 1983, Reg; March 2, 2010, Susp. | ......do* | Do.
Cuyler, Town of, Cortland County | 361386 | June 6, 1977, Emerg; May 15, 1985, Reg; March 2, 2010, Susp. | ......do* | Do.
Freetown, Town of, Cortland County | 361325 | June 19, 2007, Emerg; N/A, Reg; March 2, 2010, Susp. | ......do* | Do.
Harford, Town of, Cortland County | 360180 | June 26, 1975, Emerg; May 15, 1985, Reg; March 2, 2010, Susp. | ......do* | Do.
Homer, Town of, Cortland County | 360181 | January 15, 1975, Emerg; August 15, 1983, Reg; March 2, 2010, Susp. | ......do* | Do.
Homer, Village of, Cortland County | 360182 | October 10, 1974, Emerg; August 15, 1983, Reg; March 2, 2010, Susp. | ......do* | Do.
Lapeer, Town of, Cortland County | 361326 | November 4, 1976, Emerg; July 20, 1984, Reg; March 2, 2010, Susp. | ......do* | Do.
Marathon, Village of, Cortland County | 360183 | November 21, 1974, Emerg; October 15, 1982, Reg; March 2, 2010, Susp. | ......do* | Do.
McGraw, Village of, Cortland County | 360184 | March 12, 1975, Emerg; December 1, 1982, Reg; March 2, 2010, Susp. | ......do* | Do.
Preble, Town of, Cortland County | 360185 | June 19, 1975, Emerg; May 15, 1985, Reg; March 2, 2010, Susp. | ......do* | Do.
Scott, Town of, Cortland County | 361328 | December 17, 1975, Emerg; May 15, 1985, Reg; March 2, 2010, Susp. | ......do* | Do.
Solon, Town of, Cortland County | 361329 | February 2, 1976, Emerg; May 15, 1985, Reg; March 2, 2010, Susp. | ......do* | Do.
Taylor, Town of, Cortland County | 361330 | May 19, 1977, Emerg; May 15, 1985, Reg; March 2, 2010, Susp. | ......do* | Do.
Truxton, Town of, Cortland County | 360186 | September 12, 1975, Emerg; May 15, 1985, Reg; March 2, 2010, Susp. | ......do* | Do.
Virgil, Town of, Cortland County | 360187 | March 31, 1975, Emerg; May 15, 1985, Reg; March 2, 2010, Susp. | ......do* | Do.
Willet, Town of, Cortland County | 361331 | January 21, 1977, Emerg; July 20, 1984, Reg; March 2, 2010, Susp. | ......do* | Do.
Region II
West Virginia: Franklin, Town of, Pendleton County | 540154 | July 2, 1975, Emerg; September 1, 1987, Reg; March 2, 2010, Susp. | ......do* | Do.
Region IV
Mississippi:
Forrest County, Unincorporated Areas | 280052 | March 6, 1975, Emerg; April 2, 1990, Reg; March 2, 2010, Susp. | ......do* | Do.
Hattiesburg, City of, Forrest and Lamar Counties | 280053 | April 3, 1970, Emerg; April 3, 1970, Reg; March 2, 2010, Susp. | ......do* | Do.
Lamar County, Unincorporated Areas | 280304 | April 16, 1979, Emerg; April 2, 1990, Reg; March 2, 2010, Susp. | ......do* | Do.
Lumberton, City of, Lamar and Pearl River Counties | 280337 | N/A, Emerg; February 26, 2009, Reg; March 2, 2010, Susp. | ......do* | Do.
Petal, City of, Forrest County | 280260 | September 27, 1974, Emerg; April 15, 1980, Reg; March 2, 2010, Susp. | ......do* | Do.
Purvis, Town of, Lamar County | 280318 | May 14, 1980, Emerg; March 1, 1987, Reg; March 2, 2010, Susp. | ......do* | Do.
Sumrall, Town of, Lamar County | 280326 | April 22, 1983, Emerg; August 19, 1985, Reg; March 2, 2010, Susp. | ......do* | Do.
Tennessee: Fentress County, Unincorporated Areas | 470343 | November 30, 2006, Emerg; April 1, 2007, Reg; March 2, 2010, Susp. | ......do* | Do.
Region V
Ohio:
Camden, Village of, Preble County | 390461 | June 28, 1984, Emerg; June 28, 1984, Reg; March 2, 2010, Susp. | ......do* | Do.
Coshocton, City of, Coshocton County | 390089 | July 24, 1975, Emerg; December 18, 1986, Reg; March 2, 2010, Susp. | ......do* | Do.
Coshocton County, Unincorporated Areas | 390765 | February 28, 1977, Emerg; February 4, 1987, Reg; March 2, 2010, Susp. | ......do* | Do.
Eaton, City of, Preble County | 390462 | February 14, 1975, Emerg; April 15, 1981, Reg; March 2, 2010, Susp. | ......do* | Do.
New Paris, Village of, Preble County | 390463 | March 3, 1975, Emerg; April 15, 1981, Reg; March 2, 2010, Susp. | ......do* | Do.
Preble County, Unincorporated Areas | 390460 | February 12, 1982, Emerg; February 12, 1982, Reg; March 2, 2010, Susp. | ......do* | Do.
Warsaw, Village of, Coshocton County | 390733 | August 26, 1977, Emerg; September 1, 1987, Reg; March 2, 2010, Susp. | ......do* | Do.
West Alexandria, Village of, Preble County | 390905 | N/A, Emerg; May 21, 2001, Reg; March 2, 2010, Susp. | ......do* | Do.
West Lafayette, Village of, Coshocton County | 390814 | August 26, 1977, Emerg; March 22, 1982, Reg; March 2, 2010, Susp. | ......do* | Do.
Wisconsin:
Bloomer, City of, Chippewa County | 550042 | March 20, 1975, Emerg; August 19, 1991, Reg; March 2, 2010, Susp. | ......do* | Do.
Cadott, Village of, Chippewa County | 550043 | January 23, 1975, Emerg; March 5, 1996, Reg; March 2, 2010, Susp. | ......do* | Do.
Chippewa County, Unincorporated Areas | 555549 | March 26, 1971, Emerg; June 22, 1973, Reg; March 2, 2010, Susp. | ......do* | Do.
Chippewa Falls, City of, Chippewa County | 550044 | April 16, 1971, Emerg; September 1, 1977, Reg; March 2, 2010, Susp. | ......do* | Do.
Cornell, City of, Chippewa County | 550045 | September 25, 1974, Emerg; September 28, 1990, Reg; March 2, 2010, Susp. | ......do* | Do.
Eau Claire, City of, Chippewa and Eau Claire Counties | 550128 | March 19, 1971, Emerg; June 1, 1977, Reg; March 2, 2010, Susp. | ......do* | Do.
Stanley, City of, Chippewa and Clark Counties | 550047 | April 1, 1975, Emerg; September 18, 1985, Reg; March 2, 2010, Susp. | ......do* | Do.
Region VI
Arkansas:
Atkins, City of, Pope County | 050304 | August 7, 1975, Emerg; July 6, 1982, Reg; March 2, 2010, Susp. | ......do* | Do.
Dover, City of, Pope County | 050321 | May 24, 1976, Emerg; March 15, 1983, Reg; March 2, 2010, Susp. | ......do* | Do.
London, Town of, Pope County | 050340 | September 17, 1975, Emerg; July 13, 1982, Reg; March 2, 2010, Susp. | ......do* | Do.
Pope County, Unincorporated Areas | 050458 | April 8, 2005, Emerg; July 1, 2009, Reg; March 2, 2010, Susp. | ......do* | Do.
Pottsville, Town of, Pope County | 050277 | August 26, 1976, Emerg; April 15, 1982, Reg; March 2, 2010, Susp. | ......do* | Do.
Russellville, City of, Pope County | 050178 | July 17, 1970, Emerg; July 18, 1970, Reg; March 2, 2010, Susp. | ......do* | Do.
Louisiana:
Cotton Valley, Town of, Webster Parish | 220322 | December 21, 1978, Emerg; October 15, 1985, Reg; March 2, 2010, Susp. | ......do* | Do.
Cullen, Town of, Webster Parish | 220235 | April 30, 1975, Emerg; February 12, 1979, Reg; March 2, 2010, Susp. | ......do* | Do.
Doyline, Village of, Webster Parish | 220236 | July 21, 1978, Emerg; September 18, 1979, Reg; March 2, 2010, Susp. | ......do* | Do.
Minden, City of, Webster Parish | 220237 | December 17, 1974, Emerg; July 18, 1985, Reg; March 2, 2010, Susp. | ......do* | Do.
Sibley, Village of, Webster Parish | 220258 | May 16, 1980, Emerg; July 18, 1985, Reg; March 2, 2010, Susp. | ......do* | Do.
Springhill, City of, Webster Parish | 220238 | March 12, 1975, Emerg; June 15, 1981, Reg; March 2, 2010, Susp. | ......do* | Do.
Region X
Oregon:
Amity, City of, Yamhill County | 410250 | May 20, 1975, Emerg; December 1, 1981, Reg; March 2, 2010, Susp. | ......do* | Do.
Carlton, City of, Yamhill County | 410251 | May 6, 1975, Emerg; June 30, 1976, Reg; March 2, 2010, Susp. | ......do* | Do.
Dayton, City of, Yamhill County | 410252 | June 4, 1975, Emerg; June 1, 1982, Reg; March 2, 2010, Susp. | ......do* | Do.
Dundee, City of, Yamhill County | 410253 | April 23, 1975, Emerg; March 1, 1982, Reg; March 2, 2010, Susp. | ......do* | Do.
Lafayette, City of, Yamhill County | 410254 | May 20, 1975, Emerg; June 15, 1982, Reg; March 2, 2010, Susp. | ......do* | Do.
McMinnville, City of, Yamhill County | 410255 | July 22, 1975, Emerg; December 1, 1982, Reg; March 2, 2010, Susp. | ......do* | Do.
Newberg, City of, Yamhill County | 410256 | August 5, 1974, Emerg; March 1, 1982, Reg; March 2, 2010, Susp. | ......do* | Do.
Sheridan, City of, Yamhill County | 410257 | January 21, 1975, Emerg; August 1, 1980, Reg; March 2, 2010, Susp. | ......do* | Do.
Willamina, City of, Yamhill County | 410258 | January 21, 1975, Emerg; March 15, 1982, Reg; March 2, 2010, Susp. | ......do* | Do.
Yamhill, City of, Yamhill County | 410259 | June 30, 1975, Emerg; March 1, 1982, Reg; March 2, 2010, Susp. | ......do* | Do.
Yamhill County, Unincorporated Areas | 410249 | May 28, 1974, Emerg; September 30, 1983, Reg; March 2, 2010, Susp. | ......do* | Do.
* do=Ditto.
Code for reading third column: Emerg.—Emergency; Reg.—Regular; Susp.—Suspension.

Dated: February 2, 2010.
Sandra K. Knight,
Deputy Assistant Administrator for Mitigation, Department of Homeland Security, Federal Emergency Management Agency.

[FR Doc. 2010-2615 Filed 2-5-10; 8:45 am]

BILLING CODE 9110-12-P